DEPARTMENT OF COMMERCE

National Oceanic and Atmospheric Administration

50 CFR Part 600

[I.D. 120302D]

Magnuson-Stevens Act Provisions; General Provisions for Domestic Fisheries; Application for Exempted Fishing Permits (EFPs)

AGENCY: Department of Commerce, National Oceanic and Atmospheric Administration (NOAA), National Marine Fisheries Service (NMFS)

ACTION: Notification of a proposal for EFPs to conduct experimental fishing; request for comments.

SUMMARY: The Administrator, Northeast Region, NMFS (Regional Administrator) has made a preliminary determination that the subject EFP application contains all required information and warrants further consideration. The Regional Administrator has also made a preliminary determination that the activities authorized under the EFP would be consistent with the goals and objectives of the Northeast (NE) Multispecies Fishery Management Plan (FMP). However, further review and consultation may be necessary before a final determination is made to issue EFPs. Therefore, NMFS announces that the Regional Administrator proposes to issue EFPs that would allow three vessels to conduct fishing operations that are otherwise restricted by the regulations governing the fisheries of the Northeastern United States. The EFPs would exempt these vessels from minimum mesh size requirements of the Gulf of Maine (GOM) Regulated Mesh Area (RMA), days-at-sea (DAS) requirements, and the restrictions of GOM Rolling Closure Areas IV and V. The proposed experiment would consist of a codend mesh selectivity study in the GOM RMA. This study would test four codends, two single and two composite, designed to accommodate new mesh-size regulations in various configurations. All experimental work would be monitored by Manomet Center for Conservation Sciences (Manomet) personnel. Regulations under the Magnuson-Stevens Fishery Conservation and Management Act require publication of this notification to provide interested parties the opportunity to comment on applications for proposed EFPs.

DATES: Comments on this action must be received at the appropriate address or fax number (see ADDRESSES) on or before January 6, 2003.

ADDRESSES: Written comments should be sent to Patricia A. Kurkul, Regional Administrator, NMFS, NE Regional Office, 1 Blackburn Drive, Gloucester, MA 01930. Mark the outside of the envelope “Comments on Manomet Codend Mesh Selectivity EFP Proposal.” Comments may also be sent via fax to (978) 281-9135. Comments will not be accepted if submitted via e-mail or the Internet.

Copies of the environmental assessment prepared for the proposed study are available from the NE Regional Office at the same address.

FOR FURTHER INFORMATION CONTACT: Allison Ferreira, Fishery Policy Analyst, 978-281-9103.

SUPPLEMENTARY INFORMATION: A complete application for an EFP was received from Manomet on November 4, 2002. The EFPs would allow for exemptions from the GOM RMA minimum mesh size requirements specified at 50 CFR 648.80(a)(3)(i), DAS requirements specified at § 648.82(a), and the restrictions of GOM Rolling Closure Areas IV and V specified at § 648.81(g).

This industry collaborative study involves Manomet and the Massachusetts Division of Marine Fisheries as co-principal investigators. The proposed experimental fishery would test the mesh selectivity of single and composite mesh codends in the GOM RMA. The objective of the proposed study is to address bycatch and discard of non-target and sub-legal sized fish in the GOM groundfish otter trawl fishery. The proposed study would test four codends, two single and two composite, designed to accommodate new mesh-size regulations in various configurations. The four proposed codend configurations are: (1) A codend constructed entirely of 6.5-inch (16.5-cm) diamond mesh; (2) a codend constructed entirely of 7-inch (17.8-cm) square mesh; (3) a codend constructed with 7-inch (17.8-cm) square mesh in the upper panel and 6.5-inch (16.5-cm) diamond mesh in the lower panel; and (4) a codend constructed with 7-inch (17.8-cm) square mesh in the upper panel and 7-inch (17.8-cm) diamond mesh in the lower panel. Each codend would be covered with a small mesh (3-inch (7.6-cm)) codend cover in order to gather information on the length frequency of the population sampled versus the length frequency of the population retained. Selectivity curves for each test codend could then be generated using this information.

The proposed study area would consist of that portion of the GOM RMA encompassed by a line beginning at the Maine shoreline at 69o W. long., extending southward to the 42o30' N. lat. and then westward to the 70o W. long., and then southward to the Cape Cod shoreline, excluding the year-round Cashes Ledge and Western Gulf of Maine closure areas.

Data from previous studies showed that codends do not perform in the same manner in all areas at the same time, likely due to differences in water temperatures and conditions throughout the year. Therefore, in order to account for potential variations due to location and time of year, the proposed study area would be divided into three areas of operation (North, Center and South), and the study would be conducted over three different months (February, June and November), also referred to as seasons. The study is proposed to begin in February 2003, and be completed by November 30, 2003.

In order for the participating vessels to operate in three separate areas during the months of February, June and November, these vessels must be exempt from GOM Rolling Closure Area IV and Rolling Closure Area V. Rolling Closure Area IV is in effect from June 1 - June 30, 2003, and Rolling Closure Area V is in effect from October 1 - November 30, 2003. If participating vessels were not exempt from these seasonal closure areas, only the Center area could be sampled during all three seasons, while the North and South areas could be sampled for two seasons each. As a result, the ability to compare results across seasons and areas would be severely impacted if access to the GOM rolling closure areas were not authorized.

A maximum of three vessels would be participating in the experimental fishery at any time. One additional vessel would be designated as an alternate. The three participating vessels would conduct one concurrent trip per season, with each vessel operating in a different area of operation, North, Center, or South. Each vessel would conduct eight tows of 20 minutes in duration with each of the four codend types, for a total of 32 tows per vessel per season, and a total of 288 tows for the entire study. Each concurrent trip would last four operational sea days, resulting in a total of 36 sea days for the entire study. Therefore, participating vessels would be exempt from a total of 36 DAS. Participating vessels would not engage in any other fishing activities other than the experimental tows while operating under an exempted DAS. The four operational sea days would provide Manomet staff with sufficient time to process catch between hauls and re-rig the vessels for each of the four test codends, and would also provide for additional time in case of bad weather. Depending on the distance of the study area from port, weather conditions, and other logistical factors, participating vessels could re-rig for each test codend at sea, or could return to port for re-rigging. Participating vessels would be required to notify NMFS prior to commencing an experimental fishing trip.

Target species would include cod, haddock, yellowtail flounder, American plaice, witch flounder, pollock, and windowpane flounder. The primary incidental species are expected to be skate, smooth dogfish, spiny dogfish, sculpins, sea raven and sea robin. All biological and environmental information would be recorded by trained observers (supplied by Manomet) on relevant NMFS observer logbooks. Each participating vessel would have two observers on board. All catch would be sorted and weighed on board the vessel. In addition, all commercially important species would be measured. All species that do not meet minimum size requirements would be returned to the sea immediately following scientific processing. Therefore, no undersized fish would be retained on board the vessel. A final report containing the results of the study would be provided to NMFS no later than 6 months following completion of the study.

All vessels participating in the proposed experimental fishery would be required to abide by existing trip limits for cod and haddock. Current regulations restrict vessels fishing in the GOM to landing no more than 500 lb (226.8 kg) of cod per DAS, up to a maximum of 4,000 lb (1,814.4 kg) per trip. Vessels would also be restricted to landing 3,000 lb (1,360.8 kg) of haddock per DAS, up to a maximum of 30,000 lb (13,607.8 kg), during the months of May through September, and 5,000 lb (2,268 kg) per DAS, up to a maximum of 50,000 lb (22,679.6 kg), during the months of October through April. Because each vessel is expected to utilize four sea days each season, these vessels would be limited to landing a maximum of 2,000 lb (907.2 kg) of cod each trip, and 12,000 lb (5,443.1 kg) of haddock during the November and February trips, and 20,000 lb (9,071.8 kg) of haddock during the June trips. If the Regional Administrator projects that less than 75 percent of the target total allowable catch for haddock will be harvested by the end of the fishing year, NMFS may waive the daily haddock trip limit as authorized under § 648.86(a)(1)(iii)(B). If the daily haddock trip limit is waived, participating vessels would be authorized to land the maximum haddock trip limit.

A draft environmental assessment (EA) has been prepared that analyzes the impacts of the proposed experimental fishery on the human environment. This draft EA concludes that the proposed activities to be conducted under the requested EFPs are consistent with the goals and objectives of the FMP, would not be detrimental to the well-being of any stocks of fish harvested, and would have no significant environmental impacts. The draft EA also concludes that the proposed experimental fishery would not be detrimental to Essential Fish Habitat, marine mammals, or protected species.

EFPs would be issued to up to four vessels (three participating plus one alternate), exempting them from the DAS requirements, and specific minimum mesh size requirements and GOM rolling closure area restrictions of the FMP.

Authority: 16 U.S.C. 1801 et seq.

Dated: December 13, 2002.
Bruce C. Morehead,
Acting Director, Office of Sustainable Fisheries, National Marine Fisheries Service.

[FR Doc. 02-32147 Filed 12-19-02; 8:45 am]

BILLING CODE 3510-22-S